DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than February 6, 2015.

ADDRESSES: Submit your comments to paperwork@hrsa.gov or mail the HRSA Information Collection Clearance Officer, Room 10C-03, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: National Practitioner Data Bank for Adverse Information on Physicians and Other Health Care Practitioners—45 CFR part 60 Regulations and Forms OMB No. 0915-0126—Revision

Abstract: This is a request for a revision of OMB approval of the information collection contained in regulations found at 45 CFR part 60 governing the National Practitioner Data Bank (NPDB) and the forms to be used in registering with, reporting information to, and requesting information from the NPDB. Administrative forms are also included to aid in monitoring compliance with federal reporting and querying requirements. Responsibility for NPDB implementation and operation resides in the Bureau of Health Workforce, Health Resources and Services Administration (HRSA), Department of Health and Human Services (HHS).

The intent of the NPDB is to improve the quality of health care by encouraging hospitals, state licensing boards, professional societies, and other entities providing health care services to identify and discipline those who engage in unprofessional behavior, and to restrict the ability of incompetent health care practitioners, providers, or suppliers to move from state to state without disclosure of previous damaging or incompetent performance. It also serves as a fraud and abuse clearinghouse for the reporting and disclosing of certain final adverse actions (excluding settlements in which no findings of liability have been made) taken against health care practitioners, providers, or suppliers by health plans, federal agencies, and state agencies.

The reporting forms, request for information forms (query forms), and administrative forms (used to monitor compliance) are accessed, completed, and submitted to the NPDB electronically through the NPDB Web site at http://www.npdb.hrsa.gov/. All reporting and querying is performed through this secure Web site.

Need and Proposed Use of the Information: The NPDB acts primarily as a flagging system; its principal purpose is to facilitate comprehensive review of practitioners' professional credentials and background. Information is collected from, and disseminated to, eligible entities (entities that are entitled to query and/or report to the NPDB as authorized in Title 45 part 60 of the Code of Federal Regulations) on the following: (1) Medical malpractice payments, (2) licensure actions taken by Boards of Medical Examiners, (3) state licensure and certification actions, (4) federal licensure and certification actions, (5) negative actions or findings taken by peer review organizations or private accreditation entities, (6) adverse actions taken against clinical privileges, (7) federal or state criminal convictions related to the delivery of a health care item or service, (8) civil judgments related to the delivery of a health care item or service, (9) exclusions from participation in federal or state health care programs, and (10) other adjudicated actions or decisions. It is intended that NPDB information should be considered with other relevant information in evaluating credentials of health care practitioners, providers, and suppliers.

Likely Respondents: Eligible entities that are entitled to query and/or report to the NPDB as authorized in regulations found at 45 CFR part 60.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Regulation citation | Form name | Number of respondents | Responses per respondent | Total responses | Average burden per response (in hours) | Total burden hours
§ 60.6: Reporting errors, omissions, revisions or whether an action is on appeal | Correction, Revision to Action, Correction of Revision to Action, Void, Notice of Appeal (manual) | 20,482 | 1 | 20,482 | .25 | 5,121
| Correction, Revision to Action, Correction of Revision to Action, Void, Notice of Appeal (automated) | 17,185 | 1 | 17,185 | .0003 | 5
§ 60.7: Reporting medical malpractice payments | Medical Malpractice Payment (manual) | 12,613 | 1 | 12,613 | .75 | 9,460
| Medical Malpractice Payment (automated) | 250 | 1 | 250 | .0003 | .1
§ 60.8: Reporting licensure actions taken by Boards of Medical Examiners & § 60.9: Reporting licensure and certification actions taken by States | State Licensure (manual) State Licensure (automated) | 16,770 17,422 | 1 1 | 16,770 17,422 | .75 .0003 | 12,578 5
§ 60.10: Reporting Federal licensure and certification actions | DEA/Federal Licensure | 114 | 1 | 114 | .75 | 86
§ 60.11: Reporting negative actions or findings taken by peer review organizations or private accreditation entities | Peer Review Organization Accreditation | 10 12 | 1 1 | 10 12 | .75 .75 | 8 9
§ 60.12: Reporting adverse actions taken against clinical privileges | Title IV Clinical Privileges Actions Professional Society | 671 50 | 1 1 | 671 50 | .75 .75 | 503 38
§ 60.13: Reporting Federal or State criminal convictions related to the delivery of a health care item or service | Criminal Conviction (Guilty Plea or Trial) (manual) Criminal Conviction (Guilty Plea or Trial) (automated) | 1,308 937 | 1 1 | 1,308 937 | .75 .0003 | 981 .3
| Deferred Conviction or Pre-Trial Diversion | 50 | 1 | 50 | .75 | 38
| Nolo Contendere (No Contest) Plea | 80 | 1 | 80 | .75 | 60
| Injunction | 10 | 1 | 10 | .75 | 8
§ 60.14: Reporting civil judgments related to the delivery of a health care item or service | Civil Judgment | 14 | 1 | 14 | .75 | 11
§ 60.15: Reporting exclusions from participation in Federal or State health care programs | Exclusion/Debarment (manual) Exclusion/Debarment (automated) | 1,185 5,094 | 1 1 | 1,185 5,094 | .75 .0003 | 889 2
§ 60.16: Reporting other adjudicated actions or decisions | Government Administrative Health Plan Action | 2,233 524 | 1 1 | 2,233 524 | .75 .75 | 1,675 393
§ 60.18 Requesting Information from the NPDB | One Time Query for an Individual (manual) | 1,980,825 | 1 | 1,980,825 | .08 | 158,466
| One Time Query for an Individual (automated) | 2,163,208 | 1 | 2,163,208 | .0003 | 649
| One Time Query for an Organization (manual) | 39,920 | 1 | 39,920 | .08 | 3,194
| One Time Query for an Organization (automated) | 2,266 | 1 | 2,266 | .0003 | 1
| Self-Query on an Individual | 77,318 | 1 | 77,318 | .42 | 30,201
| Self-Query on an Organization | 427 | 1 | 427 | .42 | 167
| Continuous Query (manual) | 508,203 | 1 | 508,203 | .08 | 40,656
| Continuous Query (automated) | 121,718 | 1 | 121,718 | .0003 | 37
§ 60.21: How to dispute the accuracy of NPDB information | Subject Statement and Dispute Request for Dispute Resolution | 3,501 94 | 1 1 | 3,501 94 | .75 8 | 2,626 752
Administrative | Non-Hospital Entity Registration (Initial) | 524 | 1 | 524 | 1 | 524
| Non-Hospital Entity Registration (Renewal & Update) | 6,383 | 1 | 6,383 | .25 | 1,596
| Hospital Registration (Initial) | 37 | 1 | 37 | 1 | 37
| Hospital Registration (Renewal & Update) | 3,198 | 1 | 3,198 | .25 | 800
| Licensing Board Data Request | 140 | 1 | 140 | 10.5 | 1,470
| Reporting Entity Discrepancy Letter | 389 | 1 | 389 | 4 | 1556
| Licensing Board Attestation | 354 | 1 | 354 | 1 | 354
| Corrective Action Plan | 10 | 1 | 10 | .08 | 1
| Reconciling Missing Actions | 2,176 | 1 | 2,176 | .08 | 174
| Agent Registration (Initial) | 30 | 1 | 30 | 1 | 30
| Agent Registration (Renewal & Update) | 194 | 1 | 194 | .08 | 16
| Electronic Transfer of Funds (EFT) Authorization | 566 | 1 | 566 | .08 | 45
| Authorized Agent Designation | 788 | 1 | 788 | .25 | 197
| Account Discrepancy | 41 | 1 | 41 | .25 | 10
Total |  | 5,009,324 |  | 5,009,324 |  | 275,429

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Acting Director, Division of Policy and Information Coordination.

[FR Doc. 2014-28650 Filed 12-5-14; 8:45 am]

BILLING CODE 4165-15-P